FEDERAL COMMUNICATIONS COMMISSION

[DA 09-1960]

Notice of Debarment; Schools and Libraries Universal Service Support Mechanism

AGENCY: Federal Communications Commission.

ACTION: Notice.

SUMMARY: The Enforcement Bureau (the “Bureau”) debars Mr. Douglas A. Benit from the schools and libraries universal service support mechanism (or “-Rate Program”) for a period of three years based on his conviction of mail fraud in connection with his participation in the program. The Bureau takes this action to protect the E-Rate Program from waste, fraud and abuse.

DATES: Debarment commences on the date Mr. Douglas A. Benit receives the debarment letter or September 15, 2009, whichever comes first, for a period of three years.

FOR FURTHER INFORMATION CONTACT: Rebekah Bina, Federal Communications Commission, Enforcement Bureau, Investigations and Hearings Division, Room 4-C330, 445 12th Street, SW., Washington, DC 20554. Rebekah Bina may be contacted by phone at (202) 418-7931 or e-mail at Rebekah.Bina@fcc.gov. If Ms. Bina is unavailable, you may contact Michele Berlove, Acting Assistant Division Chief, Investigations and Hearings Division, by telephone at (202) 418-1420 and by e-mail at michele.berlove@fcc.gov.

SUPPLEMENTARY INFORMATION: The Bureau debarred Mr. Douglas A. Benit from the schools and libraries universal service support mechanism for a period of three years pursuant to 47 CFR 54.8 and 47 CFR 0.111. Attached is the debarment letter, DA 09-1960, which was mailed to Mr. Douglas A. Benit and released on September 1, 2009. The complete text of the notice of debarment is available for public inspection and copying during regular business hours at the FCC Reference Information Center, Portal II, 445 12th Street, SW., Room CY-A257, Washington, DC 20554. In addition, the complete text is available on the FCC's Web site at http://www.fcc.gov. The text may also be purchased from the Commission's duplicating inspection and copying during regular business hours at the contractor, Best Copy and Printing, Inc., Portal II, 445 12th Street, SW., Room CY-B420, Washington, DC 20554, telephone (202) 488-5300 or (800) 378-3160, facsimile (202) 488-5563, or via e-mail http://www.bcpiweb.com.

Hillary S. DeNigro,
Chief, Investigations and Hearings Division, Enforcement Bureau, Federal Communications Commission.

September 1, 2009

DA 09-1960

VIA CERTIFIED MAIL RETURN RECEIPT REQUESTED

AND E-MAIL (edwishnow@aol.com) AND FACSIMILE (248) 258-6007

Mr. Douglas A. Benit

c/o Edward C. Wishnow

240 Daines

Birmingham, MI 48009

Re: Notice of Debarment, File No. EB-09-IH-0402

Dear Mr. Benit:

Pursuant to section 54.8 of the rules of the Federal Communications Commission (the “Commission”), by this Notice of Debarment you are debarred from the schools and libraries universal service support mechanism (or “E-Rate program”) for a period of three years.

On June 17, 2009, the Enforcement Bureau (the “Bureau”) sent you a Notice of Suspension and Initiation of Debarment Proceedings (the “Notice of Suspension”). That Notice of Suspension was published in the Federal Register on July 6, 2009. The Notice of Suspension suspended you from participating in activities associated with or relating to the schools and libraries universal service support mechanism and described the basis for initiation of debarment proceedings against you, the applicable debarment procedures, and the effect of debarment.

Pursuant to the Commission's rules, any opposition to your suspension or its scope or to your proposed debarment or its scope had to be filed with the Commission no later than thirty (30) calendar days from the earlier date of your receipt of the Notice of Suspension or publication of the Notice of Suspension in the Federal Register. The Commission did not receive any such opposition.

As discussed in the Notice of Suspension, the United States District Court for the Eastern District of Michigan sentenced you to serve forty-six months in prison following your guilty plea and conviction for the federal crime of mail fraud in connection with your role in a scheme to defraud the Ecorse Public Schools District (“EPS”) and the E-Rate program. While employed by EPS, you devised and participated in a fraudulent scheme to steer contracts to various companies that directly or indirectly benefited you and your companies, including contracts involving E-Rate funds. Such conduct constitutes the basis for your debarment, and your conviction falls within the categories of causes for debarment under section 54.8(c) of the Commission's rules. For the foregoing reasons, you are hereby debarred for a period of three years from the debarment date, i.e., the earlier date of your receipt of this Notice of Debarment or its publication date in the Federal Register. Debarment excludes you, for the debarment period, from activities associated with or related to the schools and libraries support mechanism, including the receipt of funds or discounted services through the schools and libraries support mechanism, or consulting with, assisting, or advising applicants or service providers regarding the schools and libraries support mechanism.

Sincerely,

Hillary S. DeNigro

Chief, Investigations and Hearings Division Enforcement Bureau

cc: Taurus N. Ziedas, United States Attorney's Office, Department of Justice (via e-mail)

Kristy Carroll, Esq., Universal Service Administrative Company (via e-mail)

Attachment 1

June 17, 2009

DA 09-1345

VIA CERTIFIED MAIL RETURN RECEIPT REQUESTED

AND E-MAIL (edwishnow@aol.com) AND FACSIMILE (248) 258-6007

Mr. Douglas A. Benit

c/o Edward C. Wishnow

240 Daines

Birmingham, MI 48009

Re: Notice of Suspension and Initiation of Debarment Proceedings, File No. EB-09-IH-0402

Dear Mr. Benit:

The Federal Communications Commission (“FCC” or “Commission”) has received notice of your conviction of mail fraud, in violation of 18 U.S.C. §§ 2, 1341, and 1346 in connection with your participation in the schools and libraries universal service support mechanism (“E-Rate program”). Consequently, pursuant to 47 C.F.R. § 54.8, this letter constitutes official notice of your suspension from the E-Rate program. In addition, the Enforcement Bureau (“Bureau”) hereby notifies you that we are commencing debarment proceedings against you.

I. Notice of Suspension

The Commission has established procedures to prevent persons who have “defrauded the government or engaged in similar acts through activities associated with or related to the schools and libraries support mechanism” from receiving the benefits associated with that program. On November 24, 2008, you, Douglas A. Benit, plead guilty to mail fraud in connection with your participation in the E-Rate program. Specifically, you were employed as a school official in the Ecorse Public Schools District (“EPS” or “District”) from 1997 to 2003, serving first as the Director of Facility Development and subsequently as the Assistant Superintendent. While employed at EPS, you were also an owner, employee, agent or subcontractor of Coral Technology, Inc. (“Coral”). During your tenure at EPS, you were responsible for approving the construction of new facilities in the District using funds from several sources, including the E-Rate program. You admitted that while employed at EPS and while concealing your associations with Coral from EPS, you and others devised a scheme to defraud the District and the E-Rate program by steering contracts for EPS to various companies that directly or indirectly benefited you and your companies, primarily Coral. In furtherance of the scheme, you submitted to the Universal Service Administrative Company (“USAC”) documents supporting Coral's application for federal E-Rate funding, while employed at EPS and within the scope of your official responsibilities. As a result of these contracts, which were paid in part from the E-Rate program, you and your company personally benefited from the fraudulent scheme by at least $2.276 million.

On March 31, 2009, you were sentenced to serve forty-six months in federal prison, to be followed by thirty-six months of supervised release for your role in the scheme to defraud EPS and the E-Rate program. You were also ordered to pay $1.34 million in restitution for your role in the scheme.

Pursuant to section 54.8(a)(4) of the Commission's rules, your conviction requires the Bureau to suspend you from participating in any activities associated with or related to the schools and libraries fund mechanism, including the receipt of funds or discounted services through the schools and libraries fund mechanism, or consulting with, assisting, or advising applicants or service providers regarding the schools and libraries support mechanism. Your suspension becomes effective upon the earlier of your receipt of this letter or publication of notice in the Federal Register.

Suspension is immediate pending the Bureau's final debarment determination. In accordance with the Commission's debarment rules, you may contest this suspension or the scope of this suspension by filing arguments in opposition to the suspension, with any relevant documentation. Your request must be received within 30 days after you receive this letter or after notice is published in the Federal Register, whichever comes first. Such requests, however, will not ordinarily be granted. The Bureau may reverse or limit the scope of suspension only upon a finding of extraordinary circumstances. Absent extraordinary circumstances, the Bureau will decide any request for reversal or modification of suspension within 90 days of its receipt of such request.

II. Initiation of Debarment Proceedings

Your guilty plea to criminal conduct in connection with the E-Rate program, in addition to serving as a basis for immediate suspension from the program, also serves as a basis for the initiation of debarment proceedings against you. Your conviction falls within the categories of causes for debarment defined in section 54.8(c) of the Commission's rules. Therefore, pursuant to section 54.8(a)(4) of the Commission's rules, your conviction requires the Bureau to commence debarment proceedings against you.

As with your suspension, you may contest debarment or the scope of the proposed debarment by filing arguments and any relevant documentation within 30 calendar days of the earlier of the receipt of this letter or of publication in the Federal Register. Absent extraordinary circumstances, the Bureau will debar you. Within 90 days of receipt of any opposition to your suspension and proposed debarment, the Bureau, in the absence of extraordinary circumstances, will provide you with notice of its decision to debar. If the Bureau decides to debar you, its decision will become effective upon the earlier of your receipt of a debarment notice or publication of the decision in the Federal Register.

If and when your debarment becomes effective, you will be prohibited from participating in activities associated with or related to the schools and libraries support mechanism for three years from the date of debarment. The Bureau may, if necessary to protect the public interest, extend the debarment period.

Please direct any response, if by messenger or hand delivery, to Marlene H. Dortch, Secretary, Federal Communications Commission, 236 Massachusetts Avenue, NE., Suite 110, Washington, DC 20002, to the attention of Rebekah Bina, Attorney Advisor, Investigations and Hearings Division, Enforcement Bureau, Room 4-C330, with a copy to Michele Berlove, Acting Assistant Chief, Investigations and Hearings Division, Enforcement Bureau, Room 4-C330, Federal Communications Commission. If sent by commercial overnight mail (other than U.S. Postal Service Express Mail and Priority Mail), the response should be sent to the Federal Communications Commission, 9300 East Hampton Drive, Capitol Heights, Maryland 20743. If sent by first-class, Express, or Priority mail, the response should be sent to Rebekah Bina, Attorney Advisor, Investigations and Hearings Division, Enforcement Bureau, Federal Communications Commission, 445 12th Street, SW., Room 4-C330, Washington, DC, 20554, with a copy to Michele Berlove, Acting Assistant Chief, Investigations and Hearings Division, Enforcement Bureau, Federal Communications Commission, 445 12th Street, SW., Room 4-C330, Washington, DC, 20554. You shall also transmit a copy of the response via email to Rebekah.Bina@fcc.gov and to Michele.Berlove@fcc.gov.

If you have any questions, please contact Ms. Bina via mail, by telephone at (202) 418-7931 or by e-mail at Rebekah.Bina@fcc.gov. If Ms. Bina is unavailable, you may contact Ms. Michele Berlove, Acting Assistant Chief, Investigations and Hearings Division, by telephone at (202) 418-1477 and by e-mail at Michele.Berlove@fcc.gov.

Sincerely yours,

Hillary S. DeNigro

Chief, Investigations and Hearings Division Enforcement Bureau

cc: Taurus N. Ziedas, United States Attorney's Office, Department of Justice (via e-mail)

Kristy Carroll, Esq., Universal Service Administrative Company (via e-mail)

[FR Doc. E9-22029 Filed 9-14-09; 8:45 am]

BILLING CODE 6712-01-P